DEPARTMENT OF TRANSPORTATION

Federal Aviation Administration

[Docket No. FAA-2024-1448]

Agency Information Collection Activities: Requests for Comments; Clearance of Renewed Approval of Information Collection: Reporting of Information Using Special Airworthiness Information Bulletin

AGENCY: Federal Aviation Administration (FAA), DOT.

ACTION: Notice and request for comments.

SUMMARY: In accordance with the Paperwork Reduction Act of 1995, the FAA invites public comments about our intention to request the Office of Management and Budget (OMB) approval to renew an information collection. The collection involves a voluntary reporting request in special airworthiness information bulletins (SAIBs). The information to be collected will be used to help the FAA collect information on the safety of a product (e.g., inspection results).

DATES: Written comments should be submitted by September 23, 2024.

ADDRESSES: Please send written comments:

By Electronic Docket: https://www.regulations.gov (Enter docket number into search field).

By mail: Scott Wessley, 901 Locust, Kansas City, Missouri 64106.

By email: scott.wessley@faa.gov.

FOR FURTHER INFORMATION CONTACT: Scott Wessley by email at: scott.wessley@faa.gov; phone: 816-329-4148.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0731.

Title: Reporting of Information Using Special Airworthiness Information Bulletin.

Form Numbers: None.

Type of Review: Renewal of an information collection.

Background: A SAIB is an information tool that the FAA uses to alert, educate, and make recommendations to the aviation community about ways to improve the safety of a product. An SAIB contains non-regulatory, non-mandatory information and guidance for safety issues that do not meet the criteria for airworthiness directive (AD) action under title 14 of the Code of Federal Regulations (14 CFR) part 39. An SAIB may include recommended actions or inspections with a request for voluntary reporting of inspection results.

Respondents: Respondents may include mechanics, type clubs, owners, and operators of aircraft.

Frequency: Information is collected as needed to acquire additional information on a specific condition.

Estimated Average Burden per Response: 5 minutes.

Estimated Total Annual Burden: 447 hours.

Issued on July 17, 2024.
Hollister B. Thorson,
Manager, Airworthiness Products Section, Operational Safety Branch, Compliance & Airworthiness Division, Aircraft Certification Service.

[FR Doc. 2024-16085 Filed 7-22-24; 8:45 am]

BILLING CODE 4910-13-P